DEPARTMENT OF HEALTH AND HUMAN SERVICES

Administration for Children & Families

Funding Opportunity; Basic Center Program

Program Office: Administration on Children, Youth, & Families—Family & Youth Services Bureau.

Funding Opportunity Title: Basic Center Program.

Announcement Type: Initial.

Funding Opportunity Number: HHS-2010-ACF-ACYF-CY-0002.

CFDA Number: 93.623.

Due Date for Applications: 07/19/2010.

This announcement was originally published on June 2, 2010 on the Administration for Children and Families' (ACF) Funding Opportunities Web site and may be accessed in html and pdf formats at http://www.acf.hhs.gov/grants/index.html.

Executive Summary: The Family and Youth Services Bureau (FYSB) is accepting applications for the Basic Center Program (BCP), which is authorized by the Runaway and Homeless Youth Act to address Runaway and Homeless Youth (RHY) problems. BCPs provide an alternative for runaway and homeless youth who might otherwise end up with law enforcement or in the child welfare, mental health, or juvenile justice systems. Each BCP must provide runaway and homeless youth with a safe and appropriate shelter; individual, family, and group counseling, as appropriate; and aftercare.

I. Funding Opportunity Description

Statutory Authority

Grants for Runaway and Homeless Youth BCPs are authorized by the Runaway and Homeless Youth Act, 42 U.S.C.sections 5701 though 5752, as most recently amended by Public Law 110-378 on October 8, 2008. Text of this legislation can be located at: http://www.acf.hhs.gov/programs/fysb/content/aboutfysb/rhycomp08.htm.

Description

History

In the early 1970s, an alarming number of youth were leaving home without parental permission, crossing State lines, and falling victim to exploitation and other dangers of street life. In response to the widespread concern about the problem of runaway and homeless youth, Congress authorized the Runaway and Homeless Youth Act of 1974 (RHYA), which provided financial support for States through a competitive grant program. The implementation and administration of the program was placed in FYSB within the Administration for Children and Families (ACF), U.S. Department of Health and Human Services (HHS).

Today, FYSB continues to administer BCP funding to the organizations and shelters that serve and protect runaway, homeless, and street youth. BCP funds are allotted annually based on each State's relative population of youth less than 18 years of age, subject to certain adjustments as described in 42 U.S.C. section 5711(b).

In Fiscal Year (FY) 2009, $14.2 million in funding was awarded in new start grants to 108 agencies for BCP services. An additional $34.4 million in funding was available to support 263 BCP projects in their second and third years.

Purpose

The goal of the BCP is to provide a positive alternative for youth, ensure their safety, and maximize their potential to take advantage of available shelter and non-shelter opportunities. Through the BCP, FYSB works to establish or strengthen community-based programs that address the immediate needs of runaway and homeless youth and their families. The central purpose of the BCP is to provide youth with emergency shelter and support services that assist youth in crisis (food, clothing, counseling and referrals for health care), reunite youth with their families (as appropriate), strengthen family relationships, and help youth transition to safe and appropriate alternative living arrangements where they can become independent, self-sufficient, contributing members of society.

Scope of Services

Funds granted under this award may be used to establish and operate (including renovations) local BCPs that provide both residential and non-residential services for RHY and their families outside of law enforcement and the child welfare, mental health, and juvenile justice systems. Costs for acquisition and renovation of existing structures may not exceed 15 percent of the grant award. Except as allowed by statue at 42 U.S.C. 5712(b)(2)(A), BCPs should be designed to provide up to 21 days of shelter for up to 20 youth, with a minimum of four beds designated to RHY.

Services delivered through this program must also address imminent needs of youth through appropriate referrals or direct interventions. Service delivery must comprehensively address the individual strengths and needs of youth as well as be gender specific (interventions that are sensitive to the diverse experiences of male, female, and transgender youth), language appropriate, and culturally sensitive and respectful of the complex identities of youth.

Program Requirements

1. Mandatory Services:

• To establish and/or operate a local center to provide temporary emergency shelter and counseling services to runaway, homeless and street youth under 18 years of age or consistent with statutory provisions at 42 U.S.C. 5732(a)(3)(A).

• To provide temporary, safe and appropriate shelter (up to 21 days) for RHY.

• To deliver individual, family and group counseling services to youth that encourage, where possible, the involvement of parents or legal guardians (as appropriate).

• Provide outreach to youth who are eligible to receive services under the BCP.

• Develop an aftercare plan to stay in contact with youth who have been served after they leave the program in order to ensure their ongoing safety. Stay connected with youth who reside outside the local area of the BCP.

• Develop a plan for addressing youth who have run away from foster care placement or correctional institutions in accordance with Federal, State, and local laws.

• Assist youth being served to stay connected with their schools or stay current with the curricula in accordance with the provisions of the McKinney-Vento Homeless Assistance Act.

• Ensure youth are provided information about educational services available to them by working with the McKinney-Vento School District Liaison.

• Maintain confidentiality of the youth and families served and their records.

• Develop a plan to contact parents or legal guardians (when appropriate) within the 24-72 hour timeframe to ensure the safe return of youth and reunite them with their families.

2. Optional Services: The applicant may choose to provide the following optional services: Street-based services, home-based services for families with youth at risk of separation from the family, drug abuse education and prevention services, and testing for sexually transmitted diseases. These optional services must meet the following requirements:

A. Street-based services. Applicants seeking to offer these services must indicate that they will provide street-based services as defined in 42 U.S.C. section 5732a(5). In addition, such applicants must demonstrate and include in their plans assurances that the applicant will provide:

• Qualified supervision of staff, including on-street supervision by appropriately trained staff;

• Backup personnel for on-street staff;

• Initial and ongoing training for staff who provide street-based services; and

• Outreach activities for RHY and street youth.

B. Home-based services for families with youth at risk of separation from the family. Applicants seeking to offer these services must indicate that they will provide home-based services as defined in 42 U.S.C. section 5732a(2) and that the recipients of home-based services will be families with youth at risk of separation from the family as defined in 42 U.S.C. section 5732a(8). Additionally, such an applicant must demonstrate and provide in its plan assurances that the applicant will:

• Provide crisis services that provide 24-hour service responses to family crises, including immediate access to temporary shelter. These services may be provided directly or through a third-party;

• Provide counseling services and information to youth and families (including unrelated individuals who reside in the household);

• Provide services and information relating to basic life skills, interpersonal skill-building, educational advancement, job attainment skills, mental and physical health care, parenting skills, financial planning and referral to sources of other needed services;

• Establish, in partnership with families of RHY and youth at risk of separation from the family, objectives and measures of success to be achieved as a result of receiving home-based services;

• Ensure that caseloads will remain low enough to allow intensive involvement with each RHY and family (five-to-20 hours a week), and that the staff providing home-based services will be supervised by qualified individuals; and

• Provide initial and periodic training to staff that provide home-based services.

C. Drug abuse education and prevention services. Applicants seeking to offer these services must indicate that they will provide drug abuse education and prevention services as defined in 42 U.S.C. 5732a(1). Such an applicant must also demonstrate and provide in its plan assurances that the applicant will provide:

• A description of the types of services that will be provided and their objectives; and

• A description of the types of information and training that will be provided to individuals who deliver these services to RHY.

The applicant's signed application will constitute its assurance that when providing drug abuse education and prevention services, the applicant shall conduct outreach activities for runaway and homeless youth.

D. Testing for sexually transmitted diseases. When requested by the youth.

3. Supervision/Training: Basic Center Programs must provide a plan for supervision and training of staff. The plan must include:

• Supervision by appropriately trained staff;

• Initial and periodic training of staff to conduct demonstrated best practices with youth and families who use shelter services;

• Initial and periodic training of staff to provide street-based services to youth of diverse cultural backgrounds that reflects gender specificity, language appropriateness, cultural sensitivity and respect for the complex identities of youth (i.e. race, gender, sexual orientation); and

• Initial and periodic training on the integration of positive youth development in the services delivered to youth and their families.

4. Positive Youth Development (PYD): Grantees are required to develop and implement their program using a PYD approach. PYD is predicated on the understanding that all young people need support, guidance, and opportunities during adolescence, a time of rapid growth and change. With this support, they can develop self-assurance and create a healthy, successful life.

Some PYD strategies include:

• Intergenerational mentoring;

• Peer mentoring;

• Youth leadership and decision making;

• Volunteerism and service learning; and

• Job preparation and work shadowing.

Grantees are required to incorporate and describe the strategies they will use to meet the PYD goals identified by Congress in the RHYA at 42 U.S.C. 5701(3). These goals ensure a young person a sense of:

(A) Safety and structure;

(B) Belonging and membership;

(C) Self-worth and social contribution;

(D) Independence and control over one's life; and

(E) Closeness in interpersonal relationships.

For more ways to implement PYD, applicants may go to http://ncfy.acf.hhs.gov/pyd/. A free introductory online course on PYD can be found at http://ncfy-learn.jbsinternational.com/.

5. Recordkeeping: Applicants must agree to keep adequate statistical records for profiling the youth and families served under this Federal grant. This information is required by program legislation and defined in the BCP contact report of the user-friendly Runaway and Homeless Youth Management Information Systems (RHYMIS). RHYMIS entrance records include anonymous, secure identifiers, demographic information about each youth, information about where they lived before coming to the youth center, who referred them, and what kind of issues they are aware of (e.g., employment, substance abuse, mental health). Exit records describe services they received, education or employment status, living situation at exit, etc. These requirements and data definitions are built into the RHYMIS software distributed to each grantee. Hotline technical assistance is available during business hours.

Applicants must have the proper computer equipment to operate RHYMIS. Applicants may budget for computer equipment in their application as needed. For more information on the proper equipment, applicants may go to the RHYMIS fact sheet located on the FYSB Web site at: http://www.acf.hhs.gov/programs/fysb/content/youthdivision/resources/rhymsfactsheet.htm or in Section VI.2 of this program announcement.

Please note that the RHYMIS software operates best with hardware in general use from 1999-present. In accordance with the Paperwork Reduction Act of 1995 (Pub. L. 104-13), the data collection under RHYMIS is approved under OMB control number 0970-0123, which expires September 30, 2010.

6. Technical Assistance: Applicants must agree to receive and participate in technical assistance efforts as recommended by Federal staff.

7. Measuring Program Success: FYSB is committed to fulfilling the objectives of its governing statute, the RHYA, by providing temporary shelter and services for runaway, homeless, and street youth, ensuring the safe return of such youth to their homes or other appropriate alternative living arrangements, according to the best interests of the youth.

Because any period of time living on the street is extremely dangerous, key parts of BCP services are in-home and prevention programs that engage at-risk youth and their families before the youth runs away. BCPs are encouraged to establish prevention services of this nature. In 2007, FYSB began upgrading RHYMIS, which every grantee must utilize, to measure the types and modes of prevention services delivered, as well as their effectiveness in keeping youth safely connected with their families and/or appropriate caregivers and diverting them from running away, other risky behaviors or entering an emergency shelter.

FYSB is committed to the following BCP goal, also tracked by RHYMIS: To maintain at 90 percent or higher the proportion of youth living in safe and appropriate settings after exiting ACF-funded BCP services.

Additionally, the RHY Act requires that grantees in RHY programs develop an adequate plan for providing counseling and aftercare services to such youth, for encouraging the involvement of their parents or legal guardians in counseling, and for ensuring, as possible, that aftercare services will be provided to those youth who are returned beyond the State in which the RHY center is located.

To measure progress towards this goal, FYSB uses RHYMIS to track different exit situations from local BCP and other RHY programs, including family reunification, residential placements and programs such as Job Corps, entry into educational institutions or military service, and independent living situations, such as apartments or group homes. Examples of practices to follow or services that agencies can provide that facilitate these outcomes include:

• A written transitional, aftercare or follow-up plan that the youth has helped develop and agrees to;

• Advice about and/or referral to appropriate mainstream assistance programs;

• Placement in appropriate, permanent, stable housing (not a shelter) or residency accommodations;

• Exit counseling, including, at minimum, a discussion between staff and the youth of exit options, resources, and destinations appropriate for his/her well-being and continued progress;

• Mentoring of youth during and/or after their term of services; and/or

• Connection with appropriate mainstream programs that can provide health care, ongoing counseling, nutrition, job training/opportunities, or other resources for which the youth may be eligible.

8. Emergency Preparedness and Management Plan: Grantees must develop and document plans that address steps to be taken in case of a local or national situation that poses risk to the health and safety of staff and youth. Emergency preparedness plans should, at a minimum, include prevention, preparedness, response and recovery efforts. The plan should contain strategies for addressing evacuation, security, food, medical supplies and notification of youth's families. In the event of an evacuation due to specific facility issues, such as a fire, loss of utilities or mandatory evacuation by the local authorities, an alternative location needs to be designated and included in the plan. Grantees must immediately provide notification to their FYSB project officer and grants officer when evacuation plans are executed.

9. Program Sustainability: Applicants must provide a plan for project continuance beyond grant support, including a plan for securing resources and continuing project activities after Federal assistance has ceased.

Definitions

Aftercare Services—The provision of services to runaway or otherwise homeless youth and their families following the youth's return home or the youth's placement in alternative living arrangements, which assist in alleviating the problems that contributed to his or her running away or being homeless. (45 CFR 1351.1)

Area—A specific neighborhood or section of the locality in which the runaway and homeless youth project is or will be located. (45 CFR 1351.1)

Budget Period—The intervals of time into which a multi-year period of assistance is divided for budgetary and funding purposes. Budget periods are usually 12 months long, but may be shorter or longer, if appropriate.

Coordinated Networks of Agencies—An association of two or more private agencies, whose purpose is to develop or strengthen services to runaway or otherwise homeless youth and their families. (45 CFR 1351.1)

Counseling Services—The provision of guidance, support and advice to runaway or otherwise homeless youth and their families that is designed to alleviate the problems that contributed to the youth's running away or being homeless, resolve intra-family problems, to reunite such youth with their families, whenever appropriate, and to help them decide upon a future course of action. (45 CFR 1351.1)

Demonstrably Frequented By or Reachable—Located in an area in which runaway or otherwise homeless youth congregate, or an area accessible to such youth by public transportation, or by the provision of transportation by the runaway and homeless youth project itself. (45 CFR 1351.1)

Drug Abuse Education and Prevention Services—Services to runaway and homeless youth to prevent or reduce the illicit use of drugs by such youth; and may include individual, family, group, and peer counseling; drop-in services; assistance to runaway and homeless youth in rural areas (including the development of community support groups); information and training relating to the illicit use of drugs by runaway and homeless youth, to individuals involved in providing services to such youth; and activities to improve the availability of local drug abuse prevention services to runaway and homeless youth. (Section 387 RHYA, as amended)

Home-Based Services—Services provided to youth and their families for the purpose of preventing such youth from running away, or otherwise becoming separated, from their families; assisting runaway youth to return to their families; and includes services that are provided in the residences of families (to the extent feasible), including intensive individual and family counseling; and training relating to life skills and parenting. (Section 387 RHY Act, as amended)

Homeless Youth—An individual (A) who is (i) less than 21 years of age, or in the case of a youth seeking shelter in a center under Part A of the RHYA, less than 18 years of age or is less than a higher maximum age if the State where the center is located has an applicable State or local law (including a regulation) that permits such higher maximum age in compliance with licensure requirements for child- and youth-serving facilities; and (ii) for the purposes of Part B, not less than 16 years of age and either (I) less than 22 years of age; or (II) not less than 22 years of age as of the expiration of the maximum period of stay permitted under section 322(a)(2) if such individual commences such stay before reaching 22 years of age; (B) for whom it is not possible to live in a safe environment with a relative; and (C) who has no other safe alternative living arrangement. (Section 387 RHYA, as amended)

Juvenile Justice System—Agencies such as, but not limited to, juvenile courts, law enforcement, probation, parole, correctional institutions, training schools and detention facilities. (45 CFR 1351.1)

Law Enforcement Structure—Any police activity or agency with legal responsibility for enforcing a criminal code including police departments and sheriffs' offices. (45 CFR 1351.1)

Locality—A unit of general government—for example: A city, county, township, town, parish, village, or a combination of such units. Federally recognized Indian Tribes are eligible to apply for grants as local units of government. (45 CFR 1351.1)

Maternity Group Home (MGH)—The program provides long-term residential services to homeless pregnant and/or parenting young people between the ages of 16 and 22, as well as their dependent children and helps them make a successful transition to self-sufficient living. (Section 322(c)(1) RHYA, as amended)

Project Period—The total time stated in the Notice of Grant Award (including any amendments) for which Federal support is recommended. The period will consist of one or more budget periods. It does not constitute a commitment by the Federal Government to fund the entire period.

Runaway and Homeless Youth Project—A locally-controlled human service program facility outside the law enforcement structure and the juvenile justice system that provides temporary shelter, directly or through other facilities, counseling, and aftercare services to runaway or otherwise homeless youth. (45 CFR 1351.1)

Runaway Youth—An individual who is less than 18 years of age and who absents himself or herself from home or a place of legal residence without the permission of a parent or legal guardian. (Section 387 RHY Act, as amended)

Short-Term Training—The provision of local, State, or regionally based instruction to runaway or otherwise homeless youth service providers in skill areas that will directly strengthen service delivery. (45 CFR 1351.1)

State—Any State of the United States, the District of Columbia, the Commonwealth of Puerto Rico, the Trust Territory of the Pacific Islands, and any Territory or possession of the U.S. (45 CFR 1351.1)

Street-Based Services—Services provided to runaway and homeless youth, and street youth in areas where they congregate. These services are designed to assist such youth in making healthy personal choices regarding: Where they live and how they behave, and may include identification of and outreach to runaway and homeless youth, and street youth; crisis intervention and counseling; information and referral for housing; information and referral for transitional living and health care services; as well as advocacy, education, and prevention services related to alcohol and drug abuse; sexual exploitation; sexually transmitted diseases, including human immunodeficiency virus (HIV); and physical and sexual assault. (Section 387 RHYA, as amended)

Street Outreach Program (SOP)—The program promotes efforts by its grantees to build relationships between street outreach workers and runaway, homeless and street youth. Grantees also provide support services that aim to move youth into stable housing and prepare them for independence.

Street Youth—An individual who is a runaway youth or indefinitely or intermittently a homeless youth; and spends a significant amount of time on the street or in other areas that increase the risk to such youth of sexual abuse, sexual exploitation, prostitution, or drug abuse. (Section 387 RHYA, as amended)

Technical Assistance—The provision of expertise, consultation and/or support for the purpose of strengthening the capabilities of grantee organizations to deliver services. (45 CFR 1351.1)

Temporary Shelter—The provision of short-term (maximum of 21 days) room and board and core crisis intervention services, on a 24-hour basis by a RHY Project. (45 CFR 1351.1)

Transitional Living Program (TLP)—The program supports projects that provide long-term residential services to homeless youth ages 16-21. The services offered are designed to help young people who are homeless make a successful transition to self-sufficient living.

Youth at Risk of Separation from the Family—An individual who is less than 18 years of age; and who has a history of running away from the family of such individual whose parent, guardian, or custodian is not willing to provide for the basic needs of such individual; or who is at risk of entering the child welfare system or juvenile justice system as a result of the lack of services available to the family to meet such needs. (Section 387 RHY Act, as amended)

II. Award Information

Funding Instrument Type: Grant.

Estimated Total Funding: $15,798,302.

Expected Number of Awards: 120.

Award Ceiling: $200,000 per Budget Period.

Award Floor: $0 per Budget Period.

Average Projected Award Amount: $150,000 per Budget Period.

Length of Project Periods: 36-month project with three 12-month budget periods.

Awards made under this announcement are subject to the availability of Federal funds.

Additional Information on Awards: It is anticipated that approximately 120 awards will be made.

The funds available for new awards and continuations in each State and insular area are listed below in the BCP FY 2010 Allocation By State under the new awards column. Funding amounts available for new awards in each State are approximations at the time of publication. Actual amounts available may change due to the availability of funds. In this table, the amounts shown in the “New Award” column are the amounts available for each State through competition under this announcement. The dollar amount available for awards in each State depends on the amount of the State's total allotment (based on the State's relative population of individuals who are less than 18 years of age) minus the amount required for non-competing continuations. Therefore, where the amount required for non-competing continuations in any State equals or exceeds the State's total allotment, identified in the funding table below, it is possible that no new awards will be made in the State. Agencies in States where zero ($0) funding is reflected are highly encouraged to apply for grant funding in the event that additional funding becomes available.

All applicants under this competitive grant area will compete with other eligible applicants in the State in which they propose to deliver services.

Basic Center Program Fiscal Year 2010 Allocation by State
| Continuations | New award | Totals
Region I:
Connecticut | $524,419 | $23,396 | $547,815
Maine | 286,547 | 0 | 286,547
Massachusetts | 780,973 | 235,716 | 1,016,689
New Hampshire | 100,000 | 105,875 | 205,875
Rhode Island | 182,878 | 18,469 | 201,347
Vermont | 0 | 200,000 | 200,000
Region I Total | $1,874,817 | $583,456 | $2,458,273
Region II:
New Jersey | $723,567 | $560,326 | $1,283,893
New York | 2,362,097 | 606,492 | 2,968,589
Puerto Rico | 200,000 | 369,994 | 569,994
Virgin Islands | 0 | 70,000 | 70,000
Region II Total | $3,285,664 | $1,606,812 | $4,892,476
Region III:
Delaware | $106,500 | $93,500 | $200,000
District of Columbia | 200,000 | 0 | 200,000
Maryland | 393,363 | 431,089 | 824,452
Pennsylvania | 776,908 | 1,031,863 | 1,808,771
Virginia | 724,551 | 433,673 | 1,158,224
West Virginia | 127,199 | 72,801 | 200,000
Region III Total | $2,328,521 | $2,062,926 | $4,391,447
Region IV:
Alabama | $662,820 | $66,593 | $729,413
Florida | 1,541,612 | 1,059,817 | 2,601,429
Georgia | 752,784 | 672,726 | 1,425,510
Kentucky | 380,000 | 254,995 | 634,995
Mississippi | 649,723 | 0 | 649,723
North Carolina | 991,921 | 398,492 | 1,390,413
South Carolina | 384,913 | 279,662 | 664,575
Tennessee | 622,021 | 309,906 | 931,927
Region IV Total | $5,985,794 | $3,042,191 | $9,027,985
Region V:
Illinois | $1,118,572 | $793,610 | $1,912,182
Indiana | 539,184 | 399,814 | 938,998
Michigan | 1,674,625 | 0 | 1,674,625
Minnesota | 831,077 | 0 | 831,077
Ohio | 1,100,417 | 614,669 | 1,715,086
Wisconsin | 454,105 | 376,861 | 830,966
Region V Total | $5,717,980 | $2,184,954 | $7,902,934
Region VI:
Arkansas | $244,052 | $202,710 | $446,762
Louisiana | 420,000 | 239,284 | 659,284
New Mexico | 385,000 | 0 | 385,000
Oklahoma | 139,000 | 380,761 | 519,761
Texas | 2,119,552 | 1,285,114 | 3,404,666
Region VI Total | $3,307,604 | $2,107,869 | $5,415,473
Region VII:
Iowa | $338,957 | $130,831 | $469,788
Kansas | 287,990 | 150,439 | 438,429
Missouri | 715,000 | 209,946 | 924,946
Nebraska | 575,361 | 0 | 575,361
Region VII Total | $1,917,308 | $491,216 | $2,408,524
Region VIII:
Colorado | $587,888 | $184,953 | $772,841
Montana | 67,516 | 132,484 | 200,000
North Dakota | 100,000 | 100,000 | 200,000
South Dakota | 310,937 | 0 | 310,937
Utah | 379,007 | 49,141 | 428,148
Wyoming | 100,000 | 100,000 | 200,000
Region VIII Total | $1,545,348 | $566,578 | $2,111,926
Region IX:
American Samoa | $0 | $70,000 | $70,000
Arizona | 733,015 | 251,512 | 984,527
California | 3,142,986 | 2,082,266 | 5,225,252
Guam | 200,000 | 0 | 200,000
Hawaii | 262,432 | 0 | 262,432
Northern Marianas | 45,000 | 25,000 | 70,000
Nevada | 185,667 | 221,162 | 406,829
Region IX Total | $4,569,100 | $2,649,940 | $7,219,040
Region X:
Alaska | 100,000 | 100,000 | 200,000
Idaho | 0 | 238,420 | 238,420
Oregon | 998,393 | 0 | 998,393
Washington | 860,769 | 163,940 | 1,024,709
Region X Total | $1,959,162 | $502,360 | $2,461,522
FY 2010 BCP TOTAL | $32,491,298 | $15,798,302 | $48,289,600

Please see Section IV.5 Funding Restrictions for any restrictions on the use of grant funds awarded under this announcement.

III. Eligibility Information

III.1. Eligible Applicants

Public and non-profit private entities and combinations of such entities are eligible applicants under this announcement. Additional information on eligibility may be found in the full announcement.

Current BCP grantees with project periods ending on or before September 29, 2010, and all other eligible applicants not currently receiving BCP funds, may apply for a new competitive BCP grant under this announcement.

Current BCP grantees (including their sub-grantees) with one or two years remaining in their project period may not apply for a new BCP grant for the community they currently serve. These grantees will receive instructions from their respective RHY Specialist on procedures for applying for non-competitive continuation grants. Current BCP grantees (including their sub-grantees) with one or two years remaining in their project period may apply for a new BCP grant for a community they are not serving under their current grant.

Individuals, foreign entities, and sole proprietorship organizations are not eligible to compete for, or receive, awards made under this announcement.

III.2. Cost Sharing or Matching

Cost Sharing/Matching Requirement: Yes.

Grantees are required to meet a non-Federal share of the project cost, in accordance with RHY Act requirements at 42 U.S.C. 5716.

Grantees must provide at least 10 precent of the total approved cost of the project. The total approved cost of the project is the sum of the ACF (Federal) share and the non-Federal share. The non-Federal share may be met by cash or in-kind contributions, although applicants are encouraged to meet their match requirements through cash contributions. For example, in order to meet the match requirements, a project requesting $200,000.00 in ACF (Federal) funds must provide a non-Federal share of the approved total project cost of at least $22,222.00, which is 10 percent of total approved project cost of $222,222.00. Grantees will be held accountable for commitments of non-Federal resources even if they exceed the amount of the required match. Failure to provide the required amount will result in the disallowance of Federal funds. A lack of supporting documentation at the time of application submission will not exclude the application from competitive review.

III.3. Other

Disqualification Factors

Applications with requests that exceed the ceiling on the amount of individual awards as stated in Section II. Award Information, will be deemed non-responsive and will not be considered for funding under this announcement.

Applications that fail to satisfy the due date and time deadline requirements stated in Section IV.3. Submission Dates and Times, will be deemed non-responsive and will not be considered for funding under this announcement.

See Section IV.3. Submission Dates and Times for disqualification information specific to electronically-submitted applications:

• Electronically-submitted applications that do not receive a date/time-stamp e-mail indicating application submission on or before 4:30 p.m., eastern time, on the due date, will be disqualified and will not be considered for competition.

• Electronically-submitted applications that fail the checks and validations at http://www.Grants.gov because the Authorized Organization Representative (AOR) does not have a current registration at the Central Contractor Registry (CCR) at the time of application submission will be disqualified and will not be considered for competition.

IV. Address To Request Application Package

IV.1 Address To Request Application Package

Standard Forms, assurances, and certifications are available at the ACF Forms webpage at http://www.acf.hhs.gov/grants/grants_resources.html. Standard Forms are also available at the Grants.gov Forms Repository Web site at http://apply07.grants.gov/apply/FormLinks?family=15.

FYSB Operations Center, c/o Master Key Consulting, Attn: BCP Funding, 4915 St. Elmo Avenue, Suite 101, Bethesda, MD 20814, Phone: (866) 796-1591, E-mail: fysb@luxcg.com, URL: http://www.acf.hhs.gov/programs/fysb.

Federal Relay Service: Hearing-impaired and speech-impaired callers may contact the Federal Relay Service for assistance at 1-800-877-8339 (TTY—Text Telephone or ASCII—American Standard Code For Information Interchange).

Section IV.2. Content and Form of Application Submission

This section provides information on the required format, Standard Forms (SFs) and other forms, certifications, assurances, D-U-N-S requirement, project description, budget and budget justification, and methods of application submission. A checklist of required application elements is available for applicants' use in Section VIII of this announcement.

Applicants are required to submit one original and two copies of all application materials if applying in hard-copy. Applicants submitting applications electronically via http://www.grants.gov need not provide additional copies of their application materials. The original signature of the Authorized Organization Representative (AOR) is required only on the original copy. The AOR is named by the applicant, and is authorized to act for the applicant, to assume the obligations imposed by the Federal laws, regulations, requirements, and conditions that apply to the grant application or awards. A point of contact on matters involving the application must also be identified on the SF-424 at 8f. This point of contact, known as the Project Director or Principal Investigator, should not be identical to the person identified as the AOR.

Each application package must include the original and two copies. Do not staple the application or any section of the application.

The length of the entire application package must not exceed 90 pages. This includes the required Federal Standard Forms (SF)/certifications (SF-424, SF-424A, SF-424B and Certification Regarding Lobbying), table of contents, project summary, project description, budget/budget justification, supplemental documentation, proof of non-profit status, summaries of sub-grants and contracts, and letters of agreement. All pages of the application package must be sequentially numbered beginning with page one. The required Federal forms will be counted towards the total number of pages. All pages of each application will be counted to determine the total length. All pages exceeding the 90-page limit will be removed and will not be considered in the reviewing process. A cover letter is not required. Applicants are reminded that if a cover letter is submitted, it will count towards the 90-page limit.

The project description must be typed and double-spaced on a single-side of 8½ x 11 inch plain white paper with at least ½ inch margins on all sides, using black print with 12-point size Times New Roman font.

Applicants that do not adhere to the prescribed format will have points deducted from the overall total after the grant review:

• Program narrative (which includes Objectives and Need for assistance, Results and Benefits, Approach, Organizational Profile, Staff and Position Data, and Budget Justification) is not double spaced: deduction of 5 points.

• Margins less than ½ inch: deduction of 3 points.

• Font is not at least 12-point size or Times New Roman: deduction of 2 points.

For charts, budget tables, supplemental letters, and support documents, applicants may use a different point size and font, but no less than 10-point size and single-spaced. Applicants that deviate from this format risk having their application not reviewed in its entirety. A final decision will be made by the Office of Grants Management on whether applications that deviate from the prescribed format will be reviewed in their entirety.

The application package should include the following and be in the following order:

a. The Required Federal Forms/Certifications—See below for description.

b. Table of Contents—This section should reference the order of the application sections and provide page numbers.

c. One-Page Project Abstract—This section should contain the following information: Agency Name, City, State; proposed service area (State, County, City etc); amount of Federal funding requested for 12-month period; proposed model of program (ie. host home shelter); target population (if applicable); point of contact, name, phone, and e-mail; number of youth to shelter during the 36-month project; number of youth to receive non-shelter services during the 36-month project; two-to-three paragraph statement on what will be accomplished with the project.

d. Project Description—This section is a comprehensive description of the proposed project, what it will accomplish and how it will be implemented. The Project Description should address each of the categories in Section V.1, and be structured in a manner that addresses each of the evaluation criterion in a logical format in the following order:

Objectives and Need for Assistance; Results and Benefits, Approach; Staff and Position Data; Organizational Profiles; and Budget and Budget Justification. Applicants must title each section accordingly.

e. Budget and Budget Justification—The budget is a line-item format and must be in a worksheet, table, or spreadsheet that illustrates how calculations were derived. The budget should reflect a 12-month budget period. Each category heading within the line-item budget should correspond with the budget categories listed in Section B of the SF-424A (e.g. Personnel, Fringe Benefits, Travel, Equipment, Supplies, Contractual, Other, Indirect Charges).

The budget justification is a narrative that provides a rationale for the items requested and how these items relate to the overall success of the project.

f. Proof of Non-Profit Status—See Section III.3 for acceptable documentation that must be submitted by date of award.

g. Third Party Agreements—A summary of monetary sub-grant(s) and/or contract(s) must be provided as part of the application package. The summary must include a description of the project services that will be completed through the sub-grant or contract using Federal funds or a non-Federal match, and the process by which the primary applicant will maintain a substantive role with the sub-grant and/or contract assuring compliance with the grant requirements and project performance. If the applicant is proposing to provide services through a different agency or entity based on a non-monetary agreement, documentation of these services must enumerate the project services that will be completed.

h. Non-Federal Resources Commitment Letters—Letters from organizations, entities, or individuals agreeing to provide non-Federal resources (cash or in-kind) to the project.

Forms, Assurances, and Certifications

Applicants seeking financial assistance under this announcement must submit the listed Standard Forms (SFs), assurances, and certifications. All required Standard Forms, assurances, and certifications are available at ACF Funding Opportunities Forms or at the Grants.gov Forms Repository unless specified otherwise.

Forms/assurances/certifications | Submission requirement | Notes/description
SF-424—Application for Federal Assistance | Submission required for all applicants by the application due date | Required for all applications.
SF-P/PSL—Project/Performance Site Location(s).
Certification Regarding Lobbying | Submission required of all applicants prior to award | Required for all applications.
SF-LLL—Disclosure of Lobbying Activities, if applicable | If applicable, submission is required prior to award | If any funds have been paid or will be paid to any person for influencing or attempting to influence an officer or employee of any agency, a Member of Congress, an officer or employee of Congress, or an employee of a Member of Congress in connection with this commitment providing for the United States to insure or guarantee a loan, the applicant shall complete and submit Standard Form (SF)-LLL, “Disclosure Form to Report Lobbying,” in accordance with its instructions. Applicants must furnish an executed copy of the Certification Regarding Lobbying prior to award.

The Pro-Children Act of 2001, 42 U.S.C. 7181 through 7184, imposes restrictions on smoking in facilities where federally funded children's services are provided. HHS grants are subject to these requirements only if they meet the Act's specified coverage. The Act specifies that smoking is prohibited in any indoor facility (owned, leased, or contracted for) used for the routine or regular provision of kindergarten, elementary, or secondary education or library services to children under the age of 18. In addition, smoking is prohibited in any indoor facility or portion of a facility (owned, leased, or contracted for) used for the routine or regular provision of federally funded health care, day care, or early childhood development, including Head Start services to children under the age of 18. The statutory prohibition also applies if such facilities are constructed, operated, or maintained with Federal funds. The statute does not apply to children's services provided in private residences, facilities funded solely by Medicare or Medicaid funds, portions of facilities used for inpatient drug or alcohol treatment, or facilities where WIC coupons are redeemed. Failure to comply with the provisions of the law may result in the imposition of a civil monetary penalty of up to $1,000 per violation and/or the imposition of an administrative compliance order on the responsible entity.

By signing and submitting the application, applicants are making the appropriate certification of their compliance with all Federal statutes relating to nondiscrimination.

Additional information on certifications and assurances may be found in the HHS Grants Policy Statement at: http://www.acf.hhs.gov/grants/grants_related.html.

Non-Federal Reviewers

Since ACF will be using non-Federal reviewers in the review process, applicants have the option of omitting from the application copies (not the original) specific salary rates or amounts for individuals specified in the application budget as well as Social Security Numbers, if otherwise required for individuals. The copies may include summary salary information. If applicants are submitting their application electronically, ACF will omit the same specific salary rate information from copies made for use during the review and selection process.

D-U-N-S® Requirement

All applicants must have a D&B Data Universal Numbering System (D-U-N-S®) number. A D-U-N-S® number is required whether an applicant is submitting a paper application or using the Government-wide electronic portal, Grants.gov. A D-U-N-S® number is required for every application for a new award or renewal/continuation of an award, including applications or plans under formula, entitlement, and block grant programs. A D-U-N-S® number may be acquired at no cost online at http://www.dnb.com. To acquire a D-U-N-S® number by phone, contact the D&B Government Customer Response Center:

U.S. and U.S Virgin Islands: 1-866-705-5711,

Alaska and Puerto Rico: 1-800-234-3867 (Select Option 2, then Option 1),

Monday—Friday 7 a.m. to 8 p.m. C.S.T.

The process to request a D-U-N-S® Number by telephone takes between 5 and 10 minutes. You will need to provide the following information:

• Legal Name.

• Tradestyle, Doing Business As (DBA), or other name by which your organization is commonly recognized.

• Physical Address, City, State and Zip Code.

• Mailing Address (if separate).

• Telephone Number.

• Contact Name.

• SIC Code (Line of Business).

• Number of Employees at your location.

• Headquarters name and address (if there is a reporting relationship to a parent corporate entity).

• Is this a home-based business?

The Project Description

Part I: The Project Description Overview: The project description provides the majority of information by which an application is evaluated and ranked in competition with other applications for available assistance. The project description should be concise and complete. It should address the activity for which Federal funds are being requested. Supporting documents should be included where they can present information clearly and succinctly. In preparing the project description, information that is responsive to each of the requested evaluation criteria must be provided. Awarding offices use this and other information in making their funding recommendations. It is important, therefore, that this information be included in the application in a manner that is clear and complete.

General Expectations and Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant-funded activity should be placed in an appendix.

Part II: General Instructions for Preparing a Full Project Description Introduction: Applicants that are required to submit a full project description shall prepare the project description statement in accordance with the following instructions while being aware of the specified evaluation criteria. The topics listed in this section provide a broad overview of what the project description should include while the Criteria in Section V.1 identify the measures that will be used to evaluate applications.

Table of Contents

List the contents of the application including corresponding page numbers.

Project Summary/Abstract

Provide a summary of the application's project description. The summary must be clear, accurate, concise, and without reference to other parts of the application. The abstract must include a brief description of the proposed grant project including the needs to be addressed, the proposed services, and the population group(s) to be served.

Please place the following at the top of the abstract:

• Project Title.

• Applicant Name.

• Address.

• Contact Phone Numbers (Voice, Fax).

• E-Mail Address.

• Web Site Address, if applicable.

The project abstract must be single-spaced and limited to one page in length.

Objectives and Need for Assistance

Clearly identify the physical, economic, social, financial, institutional, and/or other problem(s) requiring a solution. The need for assistance including the nature and scope of the problem must be demonstrated, and the principal and subordinate objectives of the project must be clearly and concisely stated; supporting documentation, such as letters of support and testimonials from concerned interests other than the applicant, may be included. Any relevant data based on planning studies or needs assessments should be included or referred to in the endnotes/footnotes. Incorporate demographic data and participant/beneficiary information, as needed. In developing the project description, the applicant may volunteer or be requested to provide information on the total range of projects currently being conducted and supported (or to be initiated), some of which may be outside the scope of the program announcement.

Outcomes Expected

Identify the outcomes to be derived from the project.

For example, the project description may cite measurable outcomes, including but not limited to, the number of youth returning home for reunification with family or returning to a safe and appropriate alternative living arrangement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. Data may be organized and presented as project tasks and subtasks with their corresponding timelines during the project period. For example, each project task could be assigned to a row in the first column of a grid. Then, a unit of time could be assigned to each subsequent column, beginning with the first unit (i.e., week, month, quarter) of the project and ending with the last. Shading, arrows, or other markings could be used across the applicable grid boxes or cells, representing units of time, to indicate the approximate duration and/or frequency of each task and its start and end dates within the project period.

When accomplishments cannot be quantified by activity or function, list them in chronological order to show the schedule of accomplishments and their target dates.

Provide a list of organizations, cooperating entities, consultants, or other key individuals who will work on the project, along with a short description of the nature of their effort or contribution.

Geographic Location

Describe the precise location of the project and boundaries of the area to be served by the proposed project. Maps or other graphic aids may be attached.

Third-Party Agreements

Provide written and signed agreements between grantees and subgrantees, or subcontractors, or other cooperating entities. These agreements must detail the scope of work to be performed, work schedules, remuneration, and other terms and conditions that structure or define the relationship.

Letters of Support

Provide statements from community, public, and commercial leaders that support the project proposed for funding. All submissions should be included in the application package or by the application deadline.

Budget and Budget Justification

Provide a budget with line-item detail and detailed calculations for each budget object class identified on the Budget Information Form (SF-424A or SF-424C). Detailed calculations must include estimation methods, quantities, unit costs, and other similar quantitative detail sufficient for the calculation to be duplicated. If matching is a requirement, include a breakout by the funding sources identified in Block 18 of the SF-424.

Provide a narrative budget justification for the first year of the proposed project. The narrative budget justification should describe how the categorical costs are derived. Discuss the necessity, reasonableness, and allocation of the proposed costs.

General

Use the following guidelines for preparing the budget and budget justification. Both Federal and non-Federal resources (when required) shall be detailed and justified in the budget and budget narrative justification. “Federal resources” refers only to the ACF grant funds for which you are applying. “Non-Federal resources” are all other non-ACF Federal and non-Federal resources. It is suggested that budget amounts and computations be presented in a columnar format: First column, object class categories; second column, Federal budget; next column(s), non-Federal budget(s); and last column, total budget. The budget justification should be in a narrative form.

Personnel

Description: Costs of employee salaries and wages.

Justification: Identify the project director or principal investigator, if known at the time of application. For each staff person, provide: The title; time commitment to the project in months; time commitment to the project as a percentage or full-time equivalent; annual salary; grant salary; wage rates; etc. Do not include the costs of consultants, personnel costs of delegate agencies, or of specific project(s) and/or businesses to be financed by the applicant.

Fringe Benefits

Description: Costs of employee fringe benefits unless treated as part of an approved indirect cost rate.

Justification: Provide a breakdown of the amounts and percentages that comprise fringe benefit costs such as health insurance, Federal Insurance Contributions Act (FICA) taxes, retirement insurance, taxes, etc.

Travel

Description: Costs of project-related travel by employees of the applicant organization. (This item does not include costs of consultant travel).

Justification: For each trip show: The total number of traveler(s); travel destination; duration of trip; per diem; mileage allowances, if privately owned vehicles will be used to travel out of town; and other transportation costs and subsistence allowances. If appropriate for this project, travel costs for key staff to attend ACF-sponsored workshops should be detailed in the budget.

Equipment

Description: “Equipment” means an article of nonexpendable, tangible personal property having a useful life of more than one year and an acquisition cost that equals or exceeds the lesser of: (a) The capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation, shall be included in or excluded from acquisition cost in accordance with the organization's regular written accounting practices.)

Justification: For each type of equipment requested provide: A description of the equipment; the cost per unit; the number of units; the total cost; and a plan for use on the project; as well as use and/or disposal of the equipment after the project ends. An applicant organization that uses its own definition for equipment should provide a copy of its policy, or section of its policy, that includes the equipment definition.

Supplies

Description: Costs of all tangible personal property other than that included under the Equipment category.

Justification: Specify general categories of supplies and their costs. Show computations and provide other information that supports the amount requested.

Contractual

Description: Costs of all contracts for services and goods except for those that belong under other categories such as equipment, supplies, construction, etc. Include third-party evaluation contracts, if applicable, and contracts with secondary recipient organizations, including delegate agencies and specific project(s) and/or businesses to be financed by the applicant.

Justification: Demonstrate that all procurement transactions will be conducted in a manner to provide, to the maximum extent practical, open and free competition. Recipients and subrecipients, other than States that are required to use 45 CFR part 92 procedures, must justify any anticipated procurement action that is expected to be awarded without competition and exceeds the simplified acquisition threshold fixed at 41 U.S.C. 403(11), currently set at $100,000. Recipients may be required to make pre-award review and procurement documents, such as requests for proposals or invitations for bids, independent cost estimates, etc. available to ACF.

Note: Whenever the applicant intends to delegate part of the project to another agency, the applicant must provide a detailed budget and budget narrative for each delegate agency, by agency title, along with the same supporting information referred to in these instructions.

Other

Description: Enter the total of all other costs. Such costs, where applicable and appropriate, may include but are not limited to: Local travel; insurance; food; medical and dental costs (noncontractual); professional services costs; space and equipment rentals; printing and publication; computer use; training costs, such as tuition and stipends; staff development costs; and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not be charged as direct costs to the grant. Also, if the applicant is requesting a rate that is less than what is allowed under the program, the authorized representative of the applicant organization must submit a signed acknowledgement that the applicant is accepting a lower rate than allowed.

Commitment of Non-Federal Resources

Description: Amounts of non-Federal resources that will be used to support the project as identified in Block 18 of the SF-424.

Justification: If an applicant is relying on match from a third party, then a firm commitment of these resources (letter or other documentation) is required with the application. Detailed budget information must be provided for every funding source identified in Block 18 of the SF-424.

Paperwork Reduction Disclaimer

As required by the Paperwork Reduction Act of 1995, Public Law 104-13, the public reporting burden for the Project Description is estimated to average 40 hours per response, including the time for reviewing instructions, gathering and maintaining the data needed, and reviewing the collection information. The Project Description information collection is approved under OMB control number 0970-0139, which expires 11/30/2012. An agency may not conduct or sponsor, and a person is not required to respond to, a collection of information unless it displays a currently valid OMB control number.

Application Submission Options

Electronic Submission via http://www.Grants.gov.

• ACF will not accept applications via facsimile or e-mail.

• The Funding Opportunity Announcement is found on the Grants.gov Web site at http://www.grants.gov where the electronic application can be downloaded for completion.

• To apply electronically, applicants must be registered with Grants.gov, Dun and Bradstreet, and the Central Contractor Registry (CCR).

• Electronically submitted applications must be submitted and time/date stamped by the due date and receipt time described in Section IV.3. Submission Dates and Times, of this announcement.

• To submit an application through Grants.gov, the applicant must be an Authorized Organization Representative (AOR) for their organization and must have a current registration with the Central Contractor Registry (CCR).

• Central Contractor Registry (CCR) registration must be updated annually. Electronically submitted applications will not pass the validation check at Grants.gov if the AOR does not have a current CCR registration and electronic signature credentials.

• Applications rejected by Grants.gov for an unregistered AOR will be disqualified and will not be considered for competition.

• Additional guidance on the submission of electronic applications can be found at http://www.acf.hhs.gov/grants/registration_checklist.html.

• If difficulties are encountered in using Grants.gov, applicants must contact the Grants.gov Contact Center at: 1-800-518-4726, or by e-mail at support@grants.gov, to report the problem and obtain assistance.

• Applicants are advised to retain Grants.gov Contact Center service ticket number(s) as they may be needed for future reference.

• Applicants that submit their applications electronically are encouraged to retain a hard copy of their application.

• It is to an applicant's advantage to submit their applications 24 hours in advance of the closing date and time.

Contact with the Grants.gov Contact Center prior to the listed due date and time does not ensure acceptance of your application. If difficulties are encountered, the Grants Management Officer (GMO) will make a determination whether the issues are due to system errors or user error.

Hard Copy Submission

Applicants that are submitting their application in paper format should submit one original and two copies of the complete application with all attachments. The original and each of the two copies must include all required forms, certifications, assurances, and appendices, be signed by the Authorized Organization Representative (AOR), and be unbound. The original copy of the application must have original signature(s). See Section IV.6 of this announcement for address information for hard copy application submissions.

Applicants may refer to Section VIII. Other Information for a checklist of application requirements that may be used in developing and organizing application materials. Details concerning acknowledgment of received applications are available in Section IV.3. Submission Dates and Times of this announcement.

IV.3. Submission Dates and Times

Due Date for Applications: 07/19/2010.

Explanation of Due Dates

The due date for receipt of applications is listed in this section. Applications received after 4:30 p.m., eastern time, on the due date will be classified as late and will not be considered in the current competition.

Applicants are responsible for ensuring that applications are received by mail, hand-delivery, or submitted electronically well in advance of the application due date and time.

Mailed Applications

Mailed applications must be received no later than 4:30 p.m., eastern time, at the address provided in Section IV.6 of this announcement on the due date listed in this section.

Hand-Delivered Applications

Applications hand-delivered by applicants, applicant couriers, other representatives of the applicant, or by overnight/express mail couriers must be received on, or before, the due date listed in this section, between the hours of 8:00 a.m. and 4:30 p.m., eastern time, Monday through Friday (excluding Federal holidays). Applications should be delivered to the address provided in Section IV.6. of this announcement.

Electronically Submitted Applications

ACF cannot accommodate transmission of applications by facsimile or e-mail. Instructions for electronic submission through www.Grants.gov may be found at http://www.acf.hhs.gov/grants/registration_checklist.html.

After the application is submitted electronically via Grants.gov, the applicant will receive three e-mails.

The following e-mails will be sent to the applicant from Grants.gov:

1. An automatic acknowledgement from Grants.gov of the application's submission that provides a Grants.gov tracking number.

The date/time-stamp in this e-mail serves as the official record of your application submission. The date/time-stamp must reflect a submission time on or before 4:30 p.m., eastern time, on the application due date for the application to be considered as meeting the due date and to be considered for competition.

2. An acknowledgement from Grants.gov that the submitted application package has passed or failed a series of checks and validations.

Applications that fail the validation check at Grants.gov because the Authorized Organization Representative (AOR) is not currently registered with the Central Contractor Registry (CCR) will be disqualified and will not be considered for competition.

3. An additional e-mail from the Administration for Children and Families (ACF) will be sent to the applicant indicating that the application has been retrieved from Grants.gov and received by ACF.

Late Applications

No appeals will be considered for applications classified as late under the three cited circumstances:

• Hard-copy applications received after 4:30 p.m., eastern time, on the due date will be classified as late and will be disqualified.

• Electronically submitted applications are considered late and are disqualified when the date/time-stamp received by e-mail from www.Grants.gov is after 4:30 p.m., eastern time, on the due date.

• Electronically submitted applications submitted by an AOR that does not have a current registration with the Central Contractor Registry (CCR) will be rejected by Grants.gov. Although the applicant may have an acceptable dated and time-stamped e-mail from Grants.gov, these applications are considered late and are disqualified and will not be considered for competition.

Extension/Waiver of Due Date and Receipt Time

ACF may extend an application due date and receipt time when circumstances such as natural disasters occur (floods, hurricanes, etc.); when there are widespread disruptions of mail service; or in other rare cases. The determination to extend or waive due date and receipt time requirements rests with ACF's Chief Grants Management Officer.

Acknowledgement of Received Application

ACF will provide acknowledgement of receipt of hard copy application packages submitted via mail or courier services.

Applicants who submit their application packages electronically via http://www.Grants.gov will receive two e-mail acknowledgements from that Web site:

1. Your application has been submitted and provides a Time/Date Stamp. This is considered the official submission time.

2. Your application has been validated and provides a Time/Date Stamp. See the previous section on disqualification for failing validation check because of an unregistered Authorized Organization Representative.

An acknowledgement e-mail from the Administration on Children and Families (ACF) indicating that the application has been retrieved and received by ACF will be sent to applicants that apply via http://www.Grants.gov.

IV.4. Intergovernmental Review of Federal Programs

This program is covered under Executive Order (E.O.) 12372, “Intergovernmental Review of Federal Programs,” and 45 CFR part 100, “Intergovernmental Review of Department of Health and Human Services Programs and Activities.” Under the Executive Order, States may design their own processes for reviewing and commenting on proposed Federal assistance under covered programs.

Applicants should go to the following URL for the official list of the jurisdictions that have elected to participate in E.O. 12372 http://www.whitehouse.gov/omb/grants_spoc/.

Applicants from participating jurisdictions should contact their SPOC, as soon as possible, to alert them of their prospective applications and to receive instructions on their jurisdiction's procedures. Applicants must submit all required application materials to the SPOC and indicate the date of submission on the Standard Form (SF) 424 at item 19.

Under 45 CFR 100.8(a)(2), a SPOC has 60 days from the application due date to comment on proposed new awards.

SPOC comments may be submitted directly to ACF to: U.S. Department of Health and Human Services, Administration for Children and Families, Office of Grants Management, Division of Discretionary Grants, 370 L'Enfant Promenade SW., 6th Floor East, Washington, DC 20447.

Entities that meet the eligibility requirements of this announcement are still eligible to apply for a grant even if a State, Territory or Commonwealth, etc., does not have a SPOC or has chosen not to participate in the process. Applicants from non-participating jurisdictions need take no action with regard to E.O. 12372. Applications from Federally-recognized Indian Tribal governments are not subject to E.O. 12372.

IV.5. Funding Restrictions

Costs of organized fund raising, including financial campaigns, endowment drives, solicitation of gifts and bequests, and similar expenses incurred solely to raise capital or obtain contributions, are considered unallowable costs under grants awarded under this announcement.

Grant awards will not allow reimbursement of pre-award costs.

Construction that is beyond renovation of existing structures is not an allowable activity or expenditure under this grant award. Costs for acquisition and renovation of existing structures may not exceed 15 percent of the grant amount awarded. The costs of acquisition and renovation of existing structures are authorized, but the costs of constructing a new building are not authorized.

No grant funds may be used for any program of distributing sterile needles or syringes for the hypodermic injection of any illegal drug (42 U.S.C. 5752). See Section VI.3, Special Terms and Conditions of Awards.

No grant funds may be used to support inherently religious activities such as religious instruction, worship, or proselytization. More information can be found at: https://www.os.dhhs.gov/fbci/waisgate21.pdf.

IV.6. Other Submission Requirements

Submit applications to one of the following addresses:

Submission by Mail

FYSB Operations Center, c/o Master Key Consulting, Attn: Basic Center Program Funding, 4915 St. Elmo Avenue, Suite 101, Bethesda, MD 20814.

Hand Delivery

FYSB Operations Center, c/o Master Key Consulting, Attn: Basic Center Program Funding, 4915 St. Elmo Avenue, Suite 101, Bethesda, MD 20814.

Electronic Submission

See Section IV.2 for application requirements and for guidance when submitting applications electronically via http://www.Grants.gov.

For all submissions, see Section IV.3 for information on due dates and times.

V. Application Review Information

V.1. Criteria

Applications competing for financial assistance will be reviewed and evaluated using the criteria described in this section. The corresponding point values indicate the relative importance placed on each review criterion. Points will be allocated based on the extent to which the application proposal addresses each of the criteria listed. Applicants should address these criteria in their application materials, particularly in the project description and budget justification, as they are the basis upon which competing applications will be judged during the objective review. The required elements of the project description and budget justification may be found in Section IV.2 of this announcement.

Objectives and Need for Assistance Maximum Points: 15

1. The extent to which the application describes clear and appropriate program objectives that will fulfill the program purpose, as provided, required by and consistent with the authorizing RHY legislation and FYSB program requirements as described in Section I.

2. The extent to which the application describes a clear need for the proposed project. A discussion must include the conditions of youth and families in the area to be served, including matters of health, education, employment and social conditions of youth and families in the service area.

3. The extent to which the application demonstrates that the services to be provided will be located in an area that is frequented by and/or easily accessible for the population to be served, through a specific description of the precise geographic location of program services. Maps or other graphic aids may be included.

4. The extent to which the application provides documentation on the number of RHY in the area to be served. If such data does not exist, the application should state this fact and provide a rationale to estimate the number of RHY in the area.

Outcomes Maximum Points: 15

1. The extent to which the applicant clearly specifies the number of at-risk youth to be served through residential and non-residential services (e.g., through outreach, counseling, educational services, shelter and support services). The application must provide the number of beds available for runaway and homeless youth. (This number is restricted to a minimum of four RHY and a maximum shelter capacity of 20 youth unless the applicant is required by State or local law regulations to meet a higher maximum to comply with licensure requirements for child and youth serving facilities; proof is required for this exception.)

2. The extent to which the application identifies quantitative outcomes and outputs for the proposed project that will fulfill the program purpose and scope of services as described in the authorizing RHY legislation and Section I. (Outcomes are the expected changes that will reasonably occur among youth, families and communities based on the program activities. An example of a project outcome is included in Section I, Measuring Program Success. Outputs are the program activities that will influence the program's outcomes.)

3. The extent to which the application demonstrates a sound relationship between program services and quantitative outcomes.

4. The extent to which the application describes the frequency of data collection and utilization of program data to make program adjustments. The application should include a description of how the organization will continue to make ongoing program adjustments that will improve performance and a description of data analysis.

Approach Maximum Points: 30

1. The extent to which the application identifies the services that will be provided, required by and consistent with, the authorizing RHY legislation and FYSB program requirements as described by Section I.

2. The extent to which the application describes how the proposed project will operate programmatically to provide the services mandated by the authorizing RHY legislation and FYSB program requirements as described in Section I.

3. If the application proposes to sub-grant or contract a significant portion of the proposed project, the extent to which the application demonstrates that the applicant will hold a substantive role in the administration and/or delivery of services of the proposed project.

4. The extent to which the application clearly identifies whether the agency will have site control over a shelter and/or have an agreement in place with the operational facility at the start of award. The application must discuss the shelter facilities and whether the applicant owns, rents or leases shelter space. If a shelter is not immediately available for lease or rent, the extent to which the application clearly specifies when and how they will achieve site control over a shelter and be fully operational within one year of receiving the award.

5. The extent to which the application describes an outreach plan that will attract RHY youth eligible for services.

6. The extent to which the application describes an outreach plan that will attract members of ethnic, cultural, and racial minorities and/or persons with limited ability to speak and interpret the English language. If the application proposes to serve a specific RHY population (e.g., single-sex programs, lesbian, gay, bisexual, transgender and questioning youth (LGBTQ), a particular ethnic group), then the applicant must describe the unique characteristics of the community that requires the need to address the specific special population. Applications will be evaluated on the extent to which the applicant describes plans for making referrals or otherwise providing for the needs of RHY youth who are not in the specific population the applicant will serve.

7. The extent to which the application describes its coordination or service linkages with local agencies to ensure a continuum of care or referrals for RHY to receive services outside the scope of the proposed project, but that are important to meet the needs of the population.

8. The extent to which the application describes plans for ensuring coordination with schools to which runaway and homeless youth will return, and for assisting the youth to stay current with the curricula of these schools, including specific information on how the applicant will work with the McKinney-Vento School District Liaison (as designated by the State Coordinator) to assure that runaway and homeless youth are provided information about the educational services available to such youth under 42 U.S.C. 11431 through 11435. A list of McKinney-Vento State Coordinators can be found at: http://www.serve.org/nche/downloads/sccontact.pdf.

9. The extent to which the application describes an effective plan for dealing with youth who have run away from foster care placements and from correctional institutions and demonstrates that procedures are in accordance with Federal, State and local laws.

10. The extent to which the application demonstrates a plan and timeframe to contact parents/guardians or other relatives of RHY seeking services, and to ensure (where appropriate) the safe return of the youth to family in accordance withRHY regulation.

11. The extent to which the application demonstrates the development of an aftercare plan to stay in contact with youth who have been served after they leave the program in order to ensure their ongoing safety. The plan must include how aftercare services will be provided for youth who reside outside the local area of the BCP.

12. The extent to which the application describes an effective plan to store and maintain confidential records of youth and their families and to protect the confidentiality of the youth and families served and their records.

13. If the applicant proposes to provide optional services, such as home-based services, the extent to which the application demonstrates how the proposed project will operate programmatically to provide the services required by the authorizing RHY legislation and FYSB program requirements as described in Section I.

14. The extent to which the application describes an emergency preparedness and management plan by addressing steps to be taken in case of a local or national situation that poses risk to the health and safety of program staff and youth. The extent to which the application describes how FYSB will be notified in the event the plan must be enacted.

15. If the application proposes to serve a specific RHY target population, then the applicant must describe the unique characteristics of the community that requires the need to address the specific target population. Applicants will be evaluated on the extent to which the applicant describes plans for making appropriate referrals and service linkages or otherwise providing for the needs of RHY youth who are not in the specific population the applicant will serve. NOTE: Age is not considered a target population.

16. The extent to which the application describes effective strategies to integrate Positive Youth Development into the operations of the project.

Organizational Profile Maximum Points: 20

1. The extent to which the application demonstrates the organizational capacity necessary to oversee Federal grants through a description of the organization's fiscal controls and an explanation of the organization's governing oversight.

2. If the application proposes to sub-grant and/or contract to another organization that will provide direct services to youth and their families through this grant, then the extent to which the application demonstrates how the sub-grant and/or contract will be monitored for grant compliance and project performance.

3. The extent to which the application describes their State and local licensing requirements to operate residential facilities for the proposed design and model of shelter and/or host homes and demonstrates their compliance with such requirements. If the agency is using funds to start a program, the extent to which it demonstrates knowledge of its State and local licensing requirements and a plan to secure such licensing. If the agency is exempt from State and local licensing, the applicant must explain why the agency is exempt.

4. The extent to which the application describes the organization's past experience in working with runaway, homeless, and street youth populations and demonstrates a sound relationship between organizational experience and the ability to provide program services as required by the authorizing RHY legislation and FYSB program requirements as described in Section I. Experience does not have to pertain only to past FYSB-funded program experience. Note: Past experience means that a major activity of the agency has been the provision of temporary shelter, counseling, and referral services to runaway or otherwise homeless youth and their families, either directly or through linkages established with other community agencies. The application must specify the length and time the organization has provided these services.

5. If the agency is a current recipient of funds from ACF for non-BCP services that support RHY, then the application will be evaluated on the extent to which it shows how the services supported by these funds are, or will be, integrated with the existing services. Note: Applicants that have a SOP, TLP and/or MGH grant(s) must discuss how funds will be integrated into RHY services proposed in this application.

6. The applicant must describe how the activities implemented under this project will be continued by the agency once Federal funding for the project has ended. The applicant must describe specific plans for accomplishing program phase-out in the event the applicant cannot obtain new operating funds at the end of the 36-month project period. The plan must identify the specific services that will continue at the end of the project period as well as how the organization will fund those services on an ongoing basis.

7. The extent to which the application addresses the agency's sustainability plan that begins immediately upon receipt of the grant.

Staff and Position Data Maximum Points: 15

1. The extent to which the application includes an organizational chart that demonstrates the relationship between all positions (including consultants, sub-grants and/or contractors) to be funded through this grant. The application must provide the name of the person employed in each position or note that the position is vacant. The application must identify the person and their position who would serve as the Point of Contact (POC) for this grant. POC information must include the telephone number and e-mail address. If the telephone number or e-mail address is not available, the applicant must state this and describe a plan for providing a telephone number and e-mail address to the Federal Project Officer should the application be approved for funding.

2. The extent to which the application provides a staffing plan that demonstrates a sound relationship between the proposed responsibilities of a program staff and the educational and professional experience required for staff positions through a discussion of position descriptions and resumes or biographical sketches of key staff, including consultants, which correspond to the organizational chart. Note: Key Staff is defined as those staff members responsible for direct oversight, management, or implementation of the proposed project and/or direct services to youth being served.

3. The extent to which the application states the expected or estimated ratio of staff-to-youth in the shelter facility and demonstrates that this ratio is sufficient to ensure adequate supervision and treatment of youth accessing services. The application must demonstrate that this ratio is in compliance with State and local licensing requirements.

4. The extent to which the application describes the agency's policy for conducting background checks on all staff who come into contact with children and youth served or proposed to be served by the agency. The application must confirm that the policy is in compliance with State and local law.

5. The extent to which the application describes a plan for training project staff in appropriate topics to safely and effectively serve runaway, homeless, and street youth, and to deal appropriately with the issues they will encounter while serving these youth. At a minimum staff should be trained on: organizational policies and procedures (to include the Emergency Preparedness Plan's objectives and procedures), job responsibilities, subject matter knowledge of issues pertaining to runaway and homeless youth and at-risk youth, positive youth development and competency to respond to the ethnicity, age, gender identity, cultural practices, sexual orientation, socioeconomic status, educational background and language of the targeted youth and their families.

Budget, Maximum Points: 5

1. The extent to which a detailed line item budget for the Federal and non-Federal share of project costs is included and demonstrates how cost estimates were derived. Detailed calculations must include estimation of methods, quantities, unit costs, and other similar quantitative detail sufficient for the calculation to be duplicated.

2. The extent to which the application demonstrates how the funds requested are necessary and essential to accomplish the scope of services, as required by the authorizing RHY legislation and FYSB program requirements, as described in Section I.

V.2. Review and Selection Process

No grant award will be made under this announcement on the basis of an incomplete application.

Initial ACF Screening

Each application will be screened to determine whether it was received by the closing date and time and whether the requested amount exceeds the award ceiling. Applications that are designated as late according to Section IV.3. Submission Dates and Times or those with requests that exceed the award ceiling, stated in Section II. Award Information will be returned to the applicant with a notation that they were deemed non-responsive and will not be reviewed.

Objective Review and Results

Applications competing for financial assistance will be reviewed and evaluated by objective review panels using the criteria described in Section V.1 of this announcement. Each panel is made up of experts with knowledge and experience in the area under review. Generally, review panels are composed of three reviewers and one chairperson.

Results of the competitive objective review are taken into consideration by ACF in the selection of projects for funding; however, objective review scores and rankings are not binding and are one element of the decision-making process.

ACF may elect to not fund applicants with management or financial problems that would indicate an inability to successfully complete the proposed project. Applications may be funded in whole or in part. Successful applicants may be funded at an amount lower than that requested. ACF reserves the right to consider a preference to fund organizations serving emerging, unserved, or under-served populations, including those located in pockets of poverty, and to consider the geographic distribution of Federal funds in its funding decisions.

The results of these reviews will assist the ACYF Commissioner, FYSB senior leadership and program staff in considering competing applications. Reviewers' scores will weigh heavily in funding decisions, but will not be the only factors considered. Applications generally will be considered in order of the average scores assigned by reviewers. However, highly ranked applications are not guaranteed funding because other factors are taken into consideration. These include, but are not limited to: Comments of reviewers and Government officials, staff evaluation and input, geographic distribution, previous program performance of applicants, compliance with grant terms under previous HHS grants, audit reports, investigative reports, and an applicant's progress in resolving any final audit disallowance on previous FYSB or other Federal agency grants.

The evaluation criteria were designed to assess the quality of a proposed project, and to determine the likelihood of its success. The evaluation criteria are closely related and are considered as a whole in judging the overall quality of an application. Points are awarded only to an application that is responsive to the evaluation criteria within the context of this program announcement.

FYSB has the authority to pass over ranking order based on geographic area (location), areas of highest need and capacity.

As required by the RHYA, in making grant award decisions, priority for funding shall be given to eligible applicants with past experience in providing services to runaway, homeless and street youth and private entities that request grant funding for $200,000 or less. Past experience means that a major activity of the applicant has been the provision of temporary shelter, counseling, and referral services to runaway or otherwise homeless youth and their families, either directly or through linkages established with other community agencies.

Please refer to Section IV.2. of this announcement for information on non-Federal reviewers in the review process.

Approved But Unfunded Applications

Applications that are approved but unfunded may be held over for funding in the next funding cycle, pending the availability of funds, for a period not to exceed one year.

V.3. Anticipated Announcement and Award Dates

FYSB expects that awards will be made by September 30, 2010. Unsuccessful applicants will be notified in writing subsequent to negotiations and final determination of awards.

VI. Award Administration Information

VI.1. Award Notices

Successful applicants will be notified through the issuance of a Financial Assistance Award (FAA) document that sets forth the amount of funds granted, the terms and conditions of the grant, the effective date of the grant, the budget period for which initial support will be given, the non-Federal share to be provided (if applicable), and the total project period for which support is contemplated. The FAA will be signed by the Grants Officer and transmitted via postal mail. Following the finalization of funding decisions, organizations whose applications will not be funded will be notified by letter, signed by the Program Office head.

VI.2. Administrative and National Policy Requirements

Awards issued under this announcement are subject to the uniform administrative requirements and cost principles of 45 CFR part 74 (Awards and Subawards to Institutions of Higher Education, Hospitals, Other Nonprofit Organizations, and Commercial Organizations), or 45 CFR part 92 (Grants and Cooperative Agreements to State, Local, and Tribal Governments).

An application funded with the release of Federal funds through a grant award, does not constitute, or imply, compliance with Federal regulations. Funded organizations are responsible for ensuring that their activities comply with all applicable Federal regulations.

Grantees are subject to the limitations set forth in 45 CFR part 74, Subpart E-Special Provisions for Awards to Commercial Organizations (45 CFR 74.81, Prohibition against profit), which states that, “* * * no HHS funds may be paid as profit to any recipient even if the recipient is a commercial organization. Profit is any amount in excess of allowable direct and indirect costs.”

Grantees are also subject to the requirements of 45 CFR part 87, Equal Treatment for Faith-Based Organizations: “Direct Federal grants, sub-award funds, or contracts under this ACF program shall not be used to support inherently religious activities such as religious instruction, worship, or proselytization. Therefore, organizations must take steps to separate, in time or location, their inherently religious activities from the services funded under this program. Regulations pertaining to the Equal Treatment for Faith-Based Organizations, which includes the prohibition against Federal funding of inherently religious activities, can be found at the HHS Web site at: http://www.hhs.gov/fbci/waisgate21.pdf.

A faith-based organization receiving HHS funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of HHS funded activities.” Additional information on “Understanding the Regulations Related to the Faith-Based and Community Initiative” can be found at: http://www.hhs.gov/fbci/regulations/index.html.

The Code of Federal Regulations (CFR) is available at http://www.gpoaccess.gov/CFR/.

Award Term and Condition for Trafficking in Persons

Awards issued under this announcement are subject to the requirements of Section 106 (g) of the Trafficking Victims Protection Act of 2000, as amended (22 U.S.C. 7104). For the full text of the award term, go to http://www.acf.hhs.gov/grants/award_term.html. If you are unable to access this link, please contact the Grants Management Contact identified in Section VII. Agency Contacts of this announcement to obtain a copy of the Term.

HHS Grants Policy Statement

The HHS Grants Policy Statement (HHS GPS) is the Department of Health and Human Services' single policy guide for discretionary grants and cooperative agreements. ACF grant awards are subject to the requirements of the HHS GPS, which covers basic grants processes, standard terms and conditions, and points of contact, as well as important agency-specific requirements. Appendices to the HHS GPS include a glossary of terms and a list of standard abbreviations for ease of reference. The general terms and conditions in the HHS GPS will apply as indicated unless there are statutory, regulatory, or award-specific requirements to the contrary that are specified in the Financial Assistance Award (FAA). The HHS GPS is available at http://www.acf.hhs.gov/grants/grants_related.html.

Other Administrative and National Policy Requirements

Grantees are subject to requirement in 45 CFR part 1351, Runaway and Homeless Youth Program Administration Requirements. In the case of conflicts between current regulatory language and RHYA statutory language, the statutory language will govern.

Sterile Needles

Applicants are advised that no grant funds may be used for any program of distributing sterile needles or syringes for the hypodermic injection of any illegal drug. Prospective grantees are advised that entities that receive BCP grant funds and that operate a program of distributing sterile needles or syringes for hypodermic injections of illegal drugs, must account for all funds used for such programs separately from any expenditure of BCP grant funds. (42 U.S.C. 5752.) See Section IV.5 Funding Restrictions.

Runaway and Homeless Youth Management Information System (RHYMIS)

Grantees must agree to keep adequate statistical records profiling the youth and families served under the Federal grant and to gather and submit program and client data required by FYSB. This information is required by the RHY program legislation and defined in user-friendly RHYMIS. Recipients of a grant administered through FYSB are required and expected to submit the data via RHYMIS or in an approved format that RHYMIS can receive. Grantees have the option of using RHYMIS for internal management improvement or for research and other program needs. A RHYMIS hotline/help desk is available at 888-749-6474, and/or at: rhymis_help@csc.com.

FYSB will fund computer software for RHY program data collection through RHYMIS. An applicant lacking the computer equipment (hardware) for RHYMIS data collection must include an estimated cost for such equipment in their proposed budget. If the applicant already has such equipment, this fact must be noted. (Note: Existing grantees generally report that their staff has been able to easily train themselves to operate RHYMIS due to its user-friendliness, prompts, help features, and FYSB's technical support service.)

In accordance with the Paperwork Reduction Act of 1995 (Pub. L. 104-13) the data collection under RHYMIS is approved under OMB control number 0970-0123, which expires September 30, 2010.

Confidentiality

Section 312 of the RHY Act requires grantees to keep adequate statistical records profiling the youth and family members whom it serves (including youth who are not referred to out-of-home shelter services), except that records maintained on individual runaway and homeless youth shall not be disclosed without the consent of the individual youth and parent or legal guardian to anyone other than another agency compiling statistical records or a Government agency involved in the disposition of criminal charges against an individual runaway and homeless youth, and reports or other documents based on such statistical records shall not disclose the identity of individual runaway and homeless youth. Moreover, Section 384 of the RHY Act requires that records containing the identity of individual youth pursuant to this Act under no circumstances be disclosed or transferred to any individual or to any public or private agency.

Separate Accounting

Section 389 of the RHY Act requires any individual or entity who receives any funds awarded under the RHY Act and who carries out any program described in section 390(a) of the Act, 42 U.S.C. 5752(a) to account for all funds used for such program separately from any RHY Act funds.

Continuation of Project

An initial grant award will be for a 12-month budget period. The award of continuation grants beyond the initial 12-month budget period will be subject to the availability of funds, satisfactory progress on the part of the grantee, and a determination that the continued funding would be in the best interest of the Federal Government.

VI.3. Reporting

Grantees under this announcement will be required to submit performance progress and financial reports periodically throughout the project period. The frequency of required reporting is listed later in this section.

In FY 2009, most ACF grantees began using a standard form for required performance progress reporting (PPR). Use of the new standard form, the ACF-OGM SF-PPR, began for new awards and continuation awards made by ACF in FY 2009. At a minimum, grantees are required to submit the ACF-OGM SF-PPR, which consists of the ACF-OGM SF-PPR Cover Page and the Program Indicators—Attachment B. ACF Programs that utilize reporting forms or formats in addition to, or instead of, the ACF-OGM SF-PPR have listed the reporting requirements later in this section.

Grant award documents will inform grantees of the appropriate performance progress report form or format to use beginning in FY 2009. Grantees should consult their award documents to determine the appropriate performance progress report format required under their award.

Grantees will continue to use the Financial Status Report (FSR) SF-269 (long form) for required financial reporting.

Performance progress and financial reports are due 30 days after the end of the reporting period. Final program performance and financial reports are due 90 days after the close of the project period. Final reports may be submitted in hard copy to the Grants Management Office Contact listed in Section VII. Agency Contacts of this announcement.

The SF-269 (long form) and the ACF-OGM-SF-PPR may be found at http://www.acf.hhs.gov/grants/grants_resources.html.

Program Progress Reports: Semi-Annually.

Financial Reports: Semi-Annually.

VII. Agency Contacts

Program Office Contact

Victoria Marquez, Family and Youth Services Bureau, FYSB Operations Center, c/o Master Key Consulting, 4915 St. Elmo Avenue, Suite 101, Bethesda, MD 20814, Phone: (866) 796-1591, E-mail: fysb@luxcg.com.

Office of Grants Management Contact

Lisa Dammar, ACYF Grants Officer, Office of Grants Management, Administration on Children and Families, c/o Master Key Consulting, 4915 St. Elmo Avenue, Suite 101, Bethesda, MD 20814, Phone: (866) 796-1591, E-mail: fysb@luxcg.com.

Federal Relay Service

Hearing-impaired and speech-impaired callers may contact the Federal Relay Service for assistance at 1-800-877-8339 (TTY—Text Telephone or ASCII—American Standard Code for Information Interchange).

VIII. Other Information

Reference Web Sites

U.S. Department of Health and Human Services (HHS) on the Internet http://www.hhs.gov/.

Administration for Children and Families (ACF) on the Internet http://www.acf.hhs.gov/.

Administration for Children and Families—Funding Opportunities homepage http://www.acf.hhs.gov/grants/.

Catalog of Federal Domestic Assistance (CFDA) https://www.cfda.gov/.

Code of Federal Regulations (CFR) http://www.gpoaccess.gov/cfr/index.html.

United States Code (U.S.C) http://www.gpoaccess.gov/uscode/.

Sign up to receive notification of ACF Funding Opportunities at www. Grants.gov http://www.grants.gov/applicants/e-mail_subscription.jsp.

The following resources are available to all applicants:

• The Family and Youth Services Bureau (FYSB) Web site: http://www.acf.hhs.gov/programs/fysb.

• The National Clearinghouse on Families and Youth (NCFY), P.O. Box 13505; Silver Spring, MD 20911-3505; (301) 608-8098; fax: (301) 608-8721; http://www.ncfy.com.

• Runaway and Homeless Youth Training and Technical Assistance Centers (RHYTTAC) Web site: http://www.rhyttac.ou.edu.

Pre-Application Conference: FYSB will be sponsoring a recorded pre-award conference for all interested parties applying for the Basic Center Program funding.

A recording and transcript of the pre-application conference will be posted at: http://www.rhyttac.ou.edu and available at least 30 days prior to the application due date. It will be available until the closing date of the announcement.

Information pertaining to the pre-application conference can be found at: http://www.rhyttac.ou.edu or by contacting the RHY Technical Assistance Center at (800) 806-2711 or rhytechnicalassistance@ou.edu .

One-Page Project Abstract (suggested sample format): This format is only suggested to assist the writers in developing their abstract.

Applicants must address every issue in the abstract, but may choose a different format to relay the information.

• Agency Name, City, State.

• Proposed Service Area (State, County, City, etc.).

• Amount of Federal Funding requested for 12-month period.

• Proposed model of program (for example host home shelter).

• Target Population (if applicable).

• Point of Contact name, phone, and e-mail.

• Number of youth to shelter during the 36-month project.

• Number of youth to receive non-shelter services during the 36-month project.

• Two to three paragraph statement on what will be accomplished with the project.

Checklist

All required Standard Forms, assurances, and certifications are available on the ACF Forms page at http://www.acf.hhs.gov/grants/grants_resources.html and on the Grants.gov Forms Repository Web page at http://apply07.grants.gov/apply/FormLinks?family=15. Versions of other Standard Forms (SFs) are available on the Office of Management and Budget (OMB) Grants Management Forms Web site at http://www.whitehouse.gov/omb/grants_forms/.

For information regarding accessibility issues, visit the Grants.gov Accessibility Compliance Page at http://www07.grants.gov/aboutgrants/accessibility_compliance.jsp.

What to submit | Where found | When to submit
SF-424—Application for Federal Assistance SF—P/PSL—Project/Performance Site Location(s) | Referenced in Section IV.2 and found at http://www.acf.hhs.gov/grants/grants_resources.html and at the Grants.gov Forms Repository at http://apply07.grants.gov/apply/FormLinks?family=15. | Submission due by application due date found in Overview and Section IV.3.
Table of Contents | Referenced in Section IV.2 of the announcement under “Project Description.” | Submission due by application due date found in Overview and Section IV.3.
Project Summary/Abstract | Referenced in Section IV.2 of the announcement under “Project Description.” | Submission due by application due date found in Overview and Section IV.3.
Project Description | Referenced in Section IV.2 of the announcement. | Submission due by application due date found in Overview and Section IV.3.
Budget and Budget Justification | Referenced in Section IV.2 of the announcement under “Project Description.” | Submission due by application due date found in Overview and Section IV.3.
Documentation of Commitment of Non-Federal Resources | Referenced in Section IV.2 of the announcement under “Budget and Budget Justification.” | Submission due by application due date found in Overview and Section IV.3.
Third-Party Agreements | Referenced in Section IV.2 of the announcement under “Project Description.” | By application due date found in Overview and Section IV.3.
Letters of Support | Referenced in Section IV.2 of the announcement under “Project Description.” | Submission due by application due date found in Overview and Section IV.3.
Certification Regarding Lobbying | Referenced in Section IV.2 of the announcement and found at http://www.acf.hhs.gov/grants/grants_resources.html. | Submission due by date of award.
This program is covered under E.O. 12372, “Intergovernmental Review of Federal Programs,” and 45 CFR part 100, “Intergovernmental Review of Department of Health and Human Services Programs and Activities.” Applicants must submit all required application materials to the State Single Point of Contact (SPOC) and indicate the date of submission on the Standard Form (SF) 424 at item 19 | Applicants should go to the following URL for the official list of the jurisdictions that have elected to participate in E.O. 12372 http://www.whitehouse.gov/omb/grants_spoc/ as indicated in Section IV.4 of this announcement. | Submission due to State Single Point of Contact by the application due date found in Overview and Section IV.3.
SF-LLL—Disclosure of Lobbying Activities, if applicable | “Disclosure Form to Report Lobbying” is referenced in Section IV.2 and found at http://www.acf.hhs.gov/grants/grants_resources.html. | Submission due by application due date found in Overview and Section IV.3.
| Submission of this form is required if any funds have been paid, or will be paid, to any person for influencing, or attempting to influence, an officer or employee of any agency, a Member of Congress, an officer or employee of Congress, or an employee of a Member of Congress in connection with this commitment providing for the United States to insure or guarantee a loan.

Contact for Further Information: Victoria Marquez, Family and Youth Services Bureau, 370 L'Enfant Promenade, SW., Washington, DC 20447. Telephone: 202-205-4866 E-mail: Victoria.marquez@acf.hhs.gov.

Dated: June 10, 2010.
Bryan Samuels,
Commissioner, Administration on Children, Youth and Families.

[FR Doc. 2010-14794 Filed 6-21-10; 8:45 am]

BILLING CODE 4182-04-P